DEPARTMENT OF ENERGY

Federal Energy Regulatory Commission

Combined Notice of Filings #1

Take notice that the Commission received the following electric corporate filings:

Docket Numbers: EC22-12-000.

Applicants: Calhoun Power Company, LLC, Alabama Power Company.

Description: Joint Application for Authorization Under Section 203 of the Federal Power Act of Calhoun Power Company, LLC, et al.

Filed Date: 10/29/21.

Accession Number: 20211029-5156.

Comment Date: 5 p.m. ET 12/28/21.

Take notice that the Commission received the following Complaints and Compliance filings in EL Dockets:

Docket Numbers: EL22-8-000.

Applicants: Irradiant Partners, LP.

Description: Petition for Declaratory Order of Irradiant Partners, LP.

Filed Date: 11/1/21.

Accession Number: 20211101-5313.

Comment Date: 5 p.m. ET 12/1/21.

Take notice that the Commission received the following electric rate filings:

Docket Numbers: ER21-2498-001.

Applicants: Versant Power.

Description: Compliance filing: Amend Order No. 676-I Compliance Filing and Request for Waivers to be effective 12/31/9998.

Filed Date: 11/1/21.

Accession Number: 20211101-5250.

Comment Date: 5 p.m. ET 12/1/21.

Docket Numbers: ER22-46-001.

Applicants: Parkway Generation Essex, LLC.

Description: Tariff Amendment: Submission of Additional Information to be effective 12/1/2021.

Filed Date: 11/2/21.

Accession Number: 20211102-5162.

Comment Date: 5 p.m. ET 11/23/21.

Docket Numbers: ER22-312-000.

Applicants: Broad River Energy LLC.

Description: Petition for Limited Waiver of Broad River Energy LLC.

Filed Date: 10/29/21.

Accession Number: 20211029-5389.

Comment Date: 5 p.m. ET 11/19/21.

Docket Numbers: ER22-314-000.

Applicants: AEP Texas Inc.

Description: § 205(d) Rate Filing: AEPTX-El Sauz Ranch Wind 1st A&R Generation Interconnection Agreement to be effective 10/14/2021.

Filed Date: 11/2/21.

Accession Number: 20211102-5080.

Comment Date: 5 p.m. ET 11/23/21.

Docket Numbers: ER22-315-000.

Applicants: Idaho Power Company.

Description: Tariff Amendment: Cancellation of Rate Schedule 167 to be effective 12/31/2021.

Filed Date: 11/2/21.

Accession Number: 20211102-5101.

Comment Date: 5 p.m. ET 11/23/21.

Docket Numbers: ER22-316-000.

Applicants: Idaho Power Company.

Description: Initial rate filing: RS 170—NorthernGrid Funding Agreement 2022-2023 to be effective 1/1/2022.

Filed Date: 11/2/21.

Accession Number: 20211102-5102.

Comment Date: 5 p.m. ET 11/23/21.

Docket Numbers: ER22-317-000.

Applicants: LS Power Marketing, LLC.

Description: § 205(d) Rate Filing: Market-Based Rate Tariff Revisions to be effective 11/3/2021.

Filed Date: 11/2/21.

Accession Number: 20211102-5121.

Comment Date: 5 p.m. ET 11/23/21.

Docket Numbers: ER22-318-000.

Applicants: Bolt Energy Marketing, LLC.

Description: § 205(d) Rate Filing: Market-Based Rate Tariff Revisions to be effective 11/3/2021.

Filed Date: 11/2/21.

Accession Number: 20211102-5122.

Comment Date: 5 p.m. ET 11/23/21.

Docket Numbers: ER22-319-000.

Applicants: Columbia Energy LLC.

Description: § 205(d) Rate Filing: Market-Based Rate Tariff Revisions to be effective 11/3/2021.

Filed Date: 11/2/21.

Accession Number: 20211102-5123.

Comment Date: 5 p.m. ET 11/23/21.

Docket Numbers: ER22-320-000.

Applicants: LifeEnergy, LLC.

Description: § 205(d) Rate Filing: Market-Based Rate Tariff Revisions to be effective 11/3/2021.

Filed Date: 11/2/21.

Accession Number: 20211102-5124.

Comment Date: 5 p.m. ET 11/23/21.

Docket Numbers: ER22-321-000.

Applicants: Basin Electric Power Cooperative.

Description: § 205(d) Rate Filing: Submission of Revised Wholesale Power Contract FERC Rate Schedule No. 9 to be effective 1/1/2022.

Filed Date: 11/2/21.

Accession Number: 20211102-5149.

Comment Date: 5 p.m. ET 11/23/21.

Docket Numbers: ER22-322-000.

Applicants: Startrans IO, LLC.

Description: § 205(d) Rate Filing: TRBAA 2022 Update to be effective 1/1/2022.

Filed Date: 11/2/21.

Accession Number: 20211102-5153.

Comment Date: 5 p.m. ET 11/23/21.

Docket Numbers: ER22-323-000.

Applicants: Exelon Generation Company, LLC.

Description: § 205(d) Rate Filing: Nuclear Operating Services Agreements Filing to be effective 12/31/9998.

Filed Date: 11/2/21.

Accession Number: 20211102-5160.

Comment Date: 5 p.m. ET 11/23/21.

Docket Numbers: ER22-324-000.

Applicants: PJM Interconnection, L.L.C.

Description: Tariff Amendment: Notice of Cancellation of Service Agreement Nos. 2274 & 2275 (PJM & AEC NITSA) to be effective 1/1/2022.

Filed Date: 11/2/21.

Accession Number: 20211102-5164.

Comment Date: 5 p.m. ET 11/23/21.

Docket Numbers: ER22-325-000.

Applicants: Calvert Cliffs Nuclear Power Plant, LLC.

Description: § 205(d) Rate Filing: Certificate of Concurrence for Nuclear Operating Services Agreement to be effective 12/31/9998.

Filed Date: 11/2/21.

Accession Number: 20211102-5167.

Comment Date: 5 p.m. ET 11/23/21.

Docket Numbers: ER22-326-000.

Applicants: Exelon FitzPatrick, LLC.

Description: § 205(d) Rate Filing: Certificate of Concurrence for Nuclear Operating Services Agreement to be effective 12/31/9998.

Filed Date: 11/2/21.

Accession Number: 20211102-5173.

Comment Date: 5 p.m. ET 11/23/21.

Take notice that the Commission received the following electric securities filings:

Docket Numbers: ES22-18-000.

Applicants: Portland General Electric Company.

Description: Application Under Section 204 of the Federal Power Act for Authorization to Issue Securities of Portland General Electric Company.

Filed Date: 10/29/21.

Accession Number: 20211029-5392.

Comment Date: 5 p.m. ET 11/19/21.

Docket Numbers: ES22-19-000; ES22-20-000; ES22-21-000; ES22-22-000.

Applicants: Entergy Arkansas, LLC, Entergy Mississippi, LLC, Entergy Texas, Inc., System Energy Resources, Inc.

Description: Application Under Section 204 of the Federal Power Act for Authorization to Issue Securities of Entergy Arkansas, LLC, et al.

Filed Date: 10/29/21.

Accession Number: 20211029-5393.

Comment Date: 5 p.m. ET 11/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 02, 2021.
Debbie-Anne A. Reese,
Deputy Secretary.

[FR Doc. 2021-24354 Filed 11-5-21; 8:45 am]

BILLING CODE 6717-01-P